DEPARTMENT OF THE TREASURY

Office of Thrift Supervision

[AC-02: OTS Nos. 12716 and H4287]

Monadnock Bancorp, Inc., Peterborough, New Hampshire; Approval of Conversion Application

Notice is hereby given that on May 12, 2006, the Assistant Managing Director, Examinations and Supervision—Operations, Office of Thrift Supervision (“OTS”), or her designee, acting pursuant to delegated authority, approved the application of Monadnock Community Bank, Peterborough, New Hampshire, to convert to the stock form of organization. Copies of the application are available for inspection by appointment (phone number: 202-906-5922 or e-mail: Public.Info@OTS.Treas.gov) at the Public Reading Room, OTS, 1700 G Street, NW., Washington, DC 20552, and OTS Northeast Regional Office, Harborside Financial Center Plaza Five, Suite 1600, Jersey City, New Jersey 07311.

Dated: May 16, 2006.
By the Office of Thrift Supervision.
Nadine Y. Washington,
Corporate Secretary.

[FR Doc. 06-4721 Filed 5-19-06; 8:45 am]

BILLING CODE 6720-01-M